DEPARTMENT OF TRANSPORTATION

Office of the Secretary

Notice of Applications for Certificates of Public Convenience and Necessity and Foreign Air Carrier Permits Filed Under Subpart B (Formerly Subpart Q) During the Week Ending March 31, 2006

The following Applications for Certificates of Public Convenience and Necessity and Foreign Air Carrier. Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-24295.

Date Filed: March 27, 2006.

Due Date for Answers, Conforming Applications, or Motion to Modify Scope:April 17, 2006.

Description: Application of Independence Air, Inc. (“Independence Air”) and Compass Airlines, Inc. (“Compass”) requesting the transfer to Compass the certificate of public convenience and necessity issued to Independence Air by Order 2004-11-19 authorizing Independence Air to engage in interstate scheduled air transportation of persons, property and mail.

Docket Number: OST-2006-24296.

Date Filed: March 27, 2006.

Due Date for Answers, Conforming Applications, or Motion to Modify Scope: April 17, 2006.

Description: Application of Era Aviation, Inc. (“Applicant”) registering the elimination of the use of certain business names under which the Applicant desires to conduct its operations, and reissuance of its underlying certificate of public convenience and necessity in the single remaining corporate name, Era Aviation, Inc.

Docket Number: OST-1999-5846.

Date Filed: March 29, 2006.

Due Date for Answers, Conforming Applications, or Motion to Modify Scope: April 19, 2006.

Description: Supplement No. 4 of United Air Lines, Inc. to its pending application for renewal and amendment of its experimental certificate of public convenience and necessity for Route 566 (U.S.-Mexico) to include authority to carry persons, property and mail in foreign air transportation in foreign air transportation between Los Angeles and Cancun and between Chicago and Puerto Vallarta.

Renee V. Wright,
Program Manager, Docket Operations, Federal Register Liaison.

[FR Doc. E6-6347 Filed 4-26-06; 8:45 am]

BILLING CODE 4910-9X-P